DEPARTMENT OF VETERANS AFFAIRS

[OMB Control No. 2900-0546]

Agency Information Collection Activities Under OMB Review

AGENCY: National Cemetery Administration, Department of Veterans Affairs.

ACTION: Notice.

SUMMARY: In compliance with the Paperwork Reduction Act (PRA) of 1995 (44 U.S.C. 3501-3521), this notice announces that the National Cemetery Administration (NCA), Department of Veterans Affairs, has submitted the collection of information abstracted below to the Office of Management and Budget (OMB) for review and comment. The PRA submission describes the nature of the information collection and its expected cost and burden; it includes the actual data collection instrument.

DATES: Comments must be submitted on or before August 23, 2004.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail denise.mclamb@mail.va.gov. Please refer to “OMB Control No. 2900-0546” in any correspondence.

Send comments and recommendations concerning any aspect of the information collection to VA's OMB Desk Officer, OMB Human Resources and Housing Branch, New Executive Office Building, Room 10235, Washington, DC 20503, (202) 395-7613. Please refer to “OMB Control No. 2900-0546” in any correspondence.

SUPPLEMENTARY INFORMATION: Title: Gravesite Reservation Survey (2 Year), VA Form 40-40.

OMB Control Number: 2900-0546.

Type of Review: Extension of a currently approved collection.

Abstract: VA Form Letter 40-40 is sent biennially to individuals holding gravesite set-asides to ascertain their wish to retain their set-aside, or relinquish it. Gravesite reservation surveys are necessary as some holders become ineligible, are buried elsewhere, or simply wish to cancel a gravesite set-aside. The survey is conducted to assure that gravesite set-asides do not go unused.

An agency may not conduct or sponsor, and a person is not required to respond to a collection of information unless it displays a currently valid OMB control number. The Federal Register Notice with a 60-day comment period soliciting comments on this collection of information was published on May 5, 2004, at page 25174.

Affected Public: Individuals or households, Business or other for profit.

Estimated Annual Burden: 2,750.

Estimated Average Burden Per Respondent: 10 minutes.

Frequency of Response: Biennially.

Estimated Number of Respondents: 16,500.

Dated: July 14, 2004.
By direction of the Secretary.
Loise Russell,
Director, Records Management Service.

[FR Doc. 04-16796 Filed 7-22-04; 8:45 am]

BILLING CODE 8320-01-P